ENVIRONMENTAL PROTECTION AGENCY

[ER-FRL-6639-2]

Environmental Impact Statements; Notice of Availability

Responsible Agency: Office of Federal Activities, General Information, (202) 564-7167 or http://www.epa.gov/compliance/nepa/.

Weekly receipt of Environmental Impact Statements

Filed March 31, 2003 Through April 4, 2003 Pursuant to 40 CFR 1506.9.

EIS No. 030148, Final EIS, BLM, NV, Toquop Energy Project, Toquop Land Disposal Amendment to the Caliente Management Framework Plan (MFP), Construction of a 1,100-megawatt (MW) Natural Gas-Fired Water-Cooled Electric Power Generating Plant and Associated Features on Public Lands, Right-of-Way Grant, Lincoln, Clark and Washoe Counties, NV, Wait Period Ends: May 12, 2003, Contact: Dan Netcher (775) 289-1872.

This document is available on the Internet at: http://www.fs.fed.us/r4/caribou/.

EIS No. 030149, Draft Supplement, BLM, NV, Millennium Expansion Project, Construct a New Facilities and Expand Existing Gold Mining Operations, Glamis Marigold Mine, Plan-of-Operations, Winnemucca, Humboldt County, NV, Comment Period Ends: June 5, 2003, Contact: Jeff Johnson, (775) 623-1500.

EIS No. 030150, Draft EIS, AFS, WI, Programmatic EIS—Cheguamegon-Nicolet National Forests Revised Land and Resource Management Plan, Implementation, Ashland, Bayfield, Florence, Forest, Langlade, Oconto, Oneida, Price, Sawyer, Taylor and Vilas Counties, CA, Comment Period Ends: July 11, 2003, Contact: Sally Hess-Samuelson, (715) 362-1384.

This document is available on the Internet at: http://www.lc.usbr.gov/lcrivops/html.

EIS No. 030151, Draft EIS, AFS, ID, Upper and Lower East Fork Cattle and Horse Allotment Management Plans, To Update the Allotment Plans to Allow Permitted Livestock Grazing, National Forest System Lands Sawthooth and Challis National Forests, Custer County, ID, Comment Period Ends: May 30, 2003, Contact: Carol Brown, (208) 727-5000.

EIS No. 030152, Final EIS, NPS, VA, Jamestown Project, Improvements at the Jamestown unit of Colonial National Park and the Jamestown National Historic Site, Implementation, James City County, VA, Wait Period Ends: May 12, 2003, Contact: Alec Gould, (757) 898-2404.

EIS No. 030153, Final EIS, AFS, ID, Caribou National Forest Land and Resource Management Plan, Implementation Revised Forest Plan, Bannock, Bear Lake. Bingham, Bonneville, Caribou, Franklin, Oneida and Power Counties, Cache and Rich Counties, UT, Lincoln County, WY, Wait Period Ends: May 12, 2003, Contact: Jerry B. Reese, (208) 557-5761.

This document is available on the Internet at: http://www.fs.fed.us/r4/caribou/.

EIS No. 030154, Draft EIS, FHW, UT, Southern Corridor, Extending from I-15 at Reference Post 2 in St. George to UT-9 near Hurricane, Endangered Species Act Review Section 7, Right-of-Way and U.S. Army Corps Section 404 Permits, St. George, Washington and Hurricane, Washington County, UT, Comment Period Ends: May 30, 2003, Contact: Gregory Punske, (801) 963-0182.

EIS No. 030155, Final EIS, FRC, OR, North Umpqua Hydroelectric Project (FERC Project 1927), New License Issuance for the existing 185.5-megawatt (MW) Facility, North Umpqua River, Douglas County, OR, Wait Period Ends: May 12, 2003, Contact: John Smith, (202) 502-8972.

EIS No. 030156, Draft EIS, DOD, NV, TN, NJ, OH, IN, NY, UT, Mercury Management Project, Select and Implement a Long-Term (i.e., 40 Years) Management of the Defense Stockpile of Elemental Mercury, Hawthorne, NV; New Haven, IN; Oak Ridge, TN; Romulus, NY; Somerville, NJ; Tooele, UT; and Warren, OH, Comment Period Ends: July 10, 2003, Contact: Dennis Lynch, (703) 767-7609.

This document is available on the Internet at: http://(www.mercuryeis.com).

EIS No. 030157, Draft Supplement, AFS, CA, WA, OR, Northern Spotted Owl Project, Updated information to Amend Selected Portions of the Aquatic Conservation Strategy, (Part of the Northwest Forest Plan), Protect and Restore Watersheds, CA, WA and OR, Comment Period Ends: July 10, 2003, Contact: Joyce Casey, (503) 326-2430.

This document is available on the Internet at: http://www.reo.gov/acs/.

EIS No. 030158, Draft EIS, UAF, CA, Los Angeles Air Force Base Land Conveyance, Construction and Development Project, Transfer Portions of Private Developer in Exchange for Construction of New Seismically Stable Facilities, Cities of El Sequndo and Hawthorne, Los Angeles County, CA, Comment Period Ends: May 27, 2003, Contact: Jason Taylor, (310) 363-0142.

This document is available on the Internet at: http://www.pirniewest.com/LAAFB.

EIS No. 030159, Final EIS, AFS, CA, North Fork Fire Salvage Project, Harvest Salvage, Merchantable Timber Volume Sale and Sierra National Forest Land and Resource Management Plan, Implementation, Bass Lake Ranger District, Madera County, CA, Wait Period Ends: May 12, 2003, Contact: Michael Price, (559) 877-2218.

EIS No. 030160, Final Supplement, AFS, UT, Griffin Springs Resource Management Project, New Information concerning the Life History and Analysis of Endangered, Threatened, Candidate, Sensitive and Management Indicator Species, Dixie National Forest, Escalante Range District, Garfield County, UT, Wait Period Ends: May 12, 2003, Contact: David M. Keefe, (435) 826-5400.

EIS No. 030161, Draft Supplement, FTA, NY, Second Avenue Subway Project, Improve Transit Access to Manhattan's East Side and Reduce Excess Crowds on the Lexington Avenue Subway, Metropolitan Transportation Authority (MTC) New York City Transit (NYCT), New York, NY, Comment Period Ends: June 10, 2003, Contact: Irwin B. Kessman, (212) 668-2177.

EIS No. 030162, Revised Draft EIS, DOE, Hanford Site Solid (Radioactive and Hazardous) Waste Program, New Information on Waste Management Alternatives, Waste Management Practices Enhancement for Low-Level Radioactive Waste, Mixed Low-Level Radioactive Waste and Transuranic Waste, Richard, Benton County, WA, Comment Period Ends: May 27, 2003, Contact: Michael S. Collins, (800) 426-4914.

Amended Notices

EIS No. 030114, Draft EIS, NPS, AK, Glacier Bay National Park and Preserve Vessel Quotas and Operating Requirements for Cruise Ships and Tour, Charter, and Private Vessels, Implementation, AK, Comment Period Ends: May 14, 2003, Contact: Nancy Swanton, (907) 257-2651.

Revision of FR Notice Published on 3/31/2003: CEQ Comment Period Ending 5/20/2003 has been Corrected to 5/14/2003.

EIS No. 030121, Draft EIS, COE, CA, East Cliff Drive Bluff Protection and Parkway Project, Evaluate Alternatives for Coastal Bluff Erosion Protection, City of Santa Cruz, Santa Cruz County, CA, Comment Period End: May 12, 2003, Contact: Sarah Cameron, (415) 977-8538.

Revision of FR Notice Published on 3/28/2003: EIS No. 0230121 has been Corrected to 030121.

Dated: April 8, 2003.
Joseph C. Montgomery,
Director, NEPA Compliance Division, Office of Federal Activities.

[FR Doc. 03-8949 Filed 4-10-03; 8:45 am]

BILLING CODE 6560-50-P